DEPARTMENT OF COMMERCE

National Oceanic and Atmospheric Administration

[RTID 0648-XB541]

Magnuson-Stevens Fishery Conservation and Management Act Provisions; Northeast Skate Complex; Withdrawal of the Notice of Intent To Prepare an Environmental Impact Statement for Amendment 5

AGENCY: National Marine Fisheries Service (NMFS), National Oceanic and Atmospheric Administration (NOAA), Commerce.

ACTION: Notice of withdrawal.

SUMMARY: The New England Fishery Management Council initiated development of Amendment 5 to the Northeast Skate Complex Fishery Management Plan in 2016. A notice of intent to develop an environmental impact statement for this action was published in January 2017, followed by a second notice and round of scoping in late December 2020. However, in September 2021, the Council voted to discontinue work on Amendment 5 and pursue the remaining alternatives through newly initiated Framework Adjustment 9. The remaining alternatives in this framework are largely administrative and not expected to have significant impacts on the fishery or human environment. Therefore, NMFS is withdrawing the notice of intent and no longer intends to prepare an environmental impact statement.

FOR FURTHER INFORMATION CONTACT: Cynthia Ferrio, Fishery Policy Analyst, (978) 281-9180.

SUPPLEMENTARY INFORMATION: In 2016, the New England Fishery Management Council initiated development of Amendment 5 to the Northeast Skate Complex Fishery Management Plan (FMP) to consider limited access in the skate fishery. The Council published a notice of intent (NOI) to develop an environmental impact statement (EIS) for this amendment, in accordance with the National Environmental Policy Act, to analyze the impacts of any proposed management measures (82 FR 825; January 4, 2017). Throughout this initial development and scoping process, the range of proposed alternatives changed. A second NOI was published (85 FR 84304; December 28, 2020), and additional scoping hearings were held in 2021.

The comments received throughout the development process during both rounds of scoping hearings, and at multiple Skate Advisory Panel, Skate Committee, and Council meetings, were mixed in support of, and opposition to, limiting access to the skate fishery. Ultimately, after careful consideration of the public comments received and extensive examination of the alternatives analyzed, the Council voted to no longer develop limited access alternatives in Amendment 5 at its April 2021 meeting. Further, at its meeting in September 2021, the Council voted to discontinue work on Amendment 5 completely and to pursue the remaining alternatives addressing changes to permit provisions and clarifying the FMP goals and objectives through the newly initiated Framework Adjustment 9. Framework 9 is expected to be implemented in mid-2022.

These remaining alternatives that will be considered in Framework 9 are largely administrative and are not expected to have significant impacts on the fishery or affected environment. Consequently, the Council and NMFS have determined that it is not necessary to prepare an EIS for Framework 9 and will instead continue development of the remaining framework alternatives with an appropriate NEPA document. Therefore, NMFS is informing the public that work on Amendment 5 is complete, and that we are withdrawing the NOI and draft EIS from further consideration.

Authority: 16 U.S.C. 1801 et seq.

Dated: November 12, 2021.
Michael Ruccio,
Acting Director, Office of Sustainable Fisheries, National Marine Fisheries Service.

[FR Doc. 2021-25094 Filed 11-16-21; 8:45 am]

BILLING CODE 3510-22-P